DEPARTMENT OF THE INTERIOR

National Park Service

[NPS-WASO-NAGPRA-23005; PPWOCRADN0-PCU00RP14.R50000]

Notice of Inventory Completion: Nebraska State Historical Society, Lincoln, NE

AGENCY: National Park Service, Interior.

ACTION: Notice.

SUMMARY: The Nebraska State Historical Society (NSHS) has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the NSHS. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the NSHS at the address in this notice by April 12, 2017.

ADDRESSES: Rob Bozell, Nebraska State Historical Society, P.O. Box 82554, Lincoln, NE 68501, telephone (402) 471-4789, email rob.bozell@nebraska.gov.

SUPPLEMENTARY INFORMATION: Notice is here given in accordance with the Native American Graves Protection and Repatriation Act (NAGPRA), 25 U.S.C. 3003, of the completion of an inventory of human remains and associated funerary objects under the control of the Nebraska State Historical Society, Lincoln, NE. The human remains were removed from the Woodcliff site (25SD31) in Saunders County, NE.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the NSHS professional staff in consultation with representatives of the Arapaho Tribe of the Wind River Reservation, Wyoming; Cheyenne River Sioux Tribe of the Cheyenne River Reservation, South Dakota; Iowa Tribe of Kansas and Nebraska; Kiowa Indian Tribe of Oklahoma; Northern Cheyenne Tribe of the Northern Cheyenne Indian Reservation, Montana; Otoe-Missouria Tribe of Indians, Oklahoma; Pawnee Nation of Oklahoma; and Ponca Tribe of Nebraska.

History and Description of the Remains

In April of 2002, human remains representing, at minimum, two individuals were removed from the Woodcliff Archeological Site (25SD31) in Saunders County, NE. The human remains, which belong to two adults of undetermined age and sex, were removed from two adjacent but separate rectangular grave features. The human remains were discovered during county road construction. Construction was halted, and the NSHS was contacted to remove the human remains. The human remains were examined by a physical anthropologist, but are too fragmentary to determine biological affinity. No known individuals were identified. The 270 associated funerary objects include: Two white clay pipe bowl fragments, one ceramic body sherd, one daub, 262 glass trade beads, one lot of fragmented leather, one metal knife blade, one metal handle, and one lot of copper stained soil. The associated funerary objects date to the same time period as a documented Oto village at this location (A.D. 1750-1770).

In the late 1960s, human remains representing, at minimum, one individual, were removed from the Woodcliff site (25SD31) in Saunders County, NE. The human remains were given to The Valley Community Historical Society in Valley, NE, by Darwin Jorgenson. In 2004, The Valley Community Historical Society gave the human remains and associated funerary objects to the NSHS. The human remains were examined by a physical anthropologist, who determined they are most likely from a Native American female between 20-24 years of age. The 594 associated funerary objects include: 556 glass trade beads, one lot of coal, one copper ring, three copper bangles, one metal key, one copper pot, one unknown metal item with adhering glass beads, four unknown metal fragments, 10 pemmican pieces, eight textile fragments, two bone or wooden comb fragments, and six wood fragments.

The Woodcliff Site (25SD31) is a Native American village and cemetery complex that was occupied around A.D. 1700-1800 based on the archeological material recovered (particularly native-made ceramics and Euroamerican trade goods). The ceramics are most similar to Pawnee wares, although it is known that the Oto moved to eastern Nebraska in the early 1700s, were in close contact with the Pawnee, and made Pawnee-like ceramics. By the mid-1700s, the Pawnee were living in a series of villages located between 50 and 100 miles to the west of Woodcliff, and the Oto were living in the immediate vicinity of the Woodcliff area. Human remains and associated funerary objects from the Woodcliff Site (25SD31) have previously been repatriated by the NSHS to the Otoe-Missouria Tribe of Indians, Oklahoma.

Determinations Made by the Nebraska State Historical Society

Officials of the Nebraska State Historical Society have determined that:

• Pursuant to 25 U.S.C. 3001(9), the human remains described in this notice represent the physical remains of three individuals of Native American ancestry.

• Pursuant to 25 U.S.C. 3001(3)(A), the 864 objects described in this notice are reasonably believed to have been placed with or near individual human remains at the time of death or later as part of the death rite or ceremony.

• Pursuant to 25 U.S.C. 3001(2), there is a relationship of shared group identity that can be reasonably traced between the Native American human remains and associated funerary objects and the Otoe-Missouria Tribe of Indians, Oklahoma.

Additional Requestors and Disposition

Lineal descendants or representatives of any Indian tribe or Native Hawaiian organization not identified in this notice that wish to request transfer of control of these human remains should submit a written request with information in support of the request to Rob Bozell, Nebraska State Historical Society, P.O. Box 82554, Lincoln, NE 68501, telephone (402) 471-4789, email rob.bozell@nebraska.gov, by April 12, 2017. After that date, if no additional requestors have come forward, transfer of control of the human remains to the Otoe-Missouri Tribe of Indians, Oklahoma may proceed.

The NSHS is responsible for notifying the Arapaho Tribe of the Wind River Reservation, Wyoming; Cheyenne River Sioux Tribe of the Cheyenne River Reservation, South Dakota; Iowa Tribe of Kansas and Nebraska; Kiowa Indian Tribe of Oklahoma; Northern Cheyenne Tribe of the Northern Cheyenne Indian Reservation, Montana; Otoe-Missouria Tribe of Indians, Oklahoma; Pawnee Nation of Oklahoma; and Ponca Tribe of Nebraska that this notice has been published.

Dated: February 27, 2017.
Melanie O'Brien,
Manager, National NAGPRA Program.

[FR Doc. 2017-04857 Filed 3-10-17; 8:45 am]

BILLING CODE 4312-52-P